DEPARTMENT OF HEALTH AND HUMAN SERVICES

Administration for Children and Families

[OMB No. 0970-0475]

Submission for OMB Review; Administration for Native Americans Annual Data Report (ADR)

AGENCY: Administration for Native Americans, Administration for Children and Families, HHS.

ACTION: Request for public comment.

SUMMARY: The Administration for Children and Families' (ACF) Administration for Native Americans (ANA) is requesting a 2-year extension to the following information collection: Annual Data Report (ADR) (OMB# 0970-0475; expiration date: 2/28/2022). There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: ANA collects the information in the ADR on an annual basis to monitor the performance of grantees and better gauge grantee progress. The majority of grantees submit this information through the On-going Progress Report (OMB# 0970-0452), but there is a subset of about 80 grantees who still use the ADR and will continue to use the ADR through the end of their grants.

The ADR information collection is conducted in accordance with sec. 811 [42 U.S.C. 2992] of the Native American Programs Act and will allow ANA to report quantifiable results across all program areas. It also provides grantees with parameters for reporting their progress and helps ANA better monitor and determine the effectiveness of their projects.

Respondents: Tribal Government, Native non-profit organizations, and Tribal Colleges and Universities receiving ANA funding.

Annual Burden Estimates
Instrument | Total number of respondents | Annual number of responses per respondent | Average burden hours per response | Annual burden hours
ANA ADR | 80 | 1 | 1 | 80

Estimated Total Annual Burden Hours: 80.

Authority: 42 U.S.C. 2992.

Mary B. Jones,
ACF/OPRE Certifying Officer.

[FR Doc. 2022-03991 Filed 2-24-22; 8:45 am]

BILLING CODE 4184-34-P